DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to review and evaluate the current standards for § 33.14 and corresponding JAR-E 515 as they pertain to the current “safe life” process. This notice is to inform the public of this ARAC activity.

FOR FURTHER INFORMATION CONTACT: Timoleon Mouzakis, Federal Aviation Administration, New England Region Headquarters, Engine and Propeller Standards Staff, 12 New England Executive Park, Burlington, MA 01803, phone (781) 238-7114, facsimile: (781) 238-7199, timoleon.mouzakis@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

1. Review and evaluate the current standards for § 33.14 and corresponding JAR-E-515 as they pertain to the current “safe life” process. As the existing standards do not explicitly account for the potential degrading effects of anomalous materials and manufacturing or usage induced anomalies, determine if the FAA can expand the current requirement to include damage tolerance philosophies. Also, establish the process to achieve a closed loop system which links the assumptions made in design (by engineering) to how the part is manufactured and maintained in service.

2. Develop a report based on the review, which may include revisions to the rules. If revisions to the rules are recommended, the report should include recommended regulatory language to the appropriate FAR section, the corresponding JAR paragraphs, any related advisory material, and ARAC's response to the economic questions attached to this tasking record.

3. If, as a result of the recommendations, the FAA publishes an NPRM and/or notice of proposed availability of draft advisory circular for public comment, the FAA may ask ARAC to review all comments and provide the agency a recommendation for the disposition of those comments.

Schedule: Required completion is no later than September 2003.

ARAC Acceptance of Task

ARAC accepted the task and assigned the task to the Engine Harmonization Working Group, Transport Airplane and Engine Issues. The working group serves as staff to ARAC and assists in the analysis of assigned tasks. ARAC must review and approve the working group's recommendations. If ARAC accepts the working group's recommendations, it will forward them to the FAA.

Working Group Activity

The Engine Harmonization Working Group is expected to comply with the procedures adopted by ARAC. As part of the procedures, the working group is expected to:

1. Recommend a work plan for completion of the task, including the rationale supporting such a plan for consideration at the next meeting of the ARAC on transport airplane and engine issues held following publication of this notice.

2. Give a detailed conceptual presentation of the proposed recommendations prior to proceeding with the work stated in item 3 below.

3. Draft the appropriate documents and required analyses and/or any other related materials or documents.

4. Provide a status report at each meeting of the ARAC held to consider transport airplane and engine issues.

Participation in the Working Group

The Engine Harmonization Working Group is composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than December 7, 2001. The requests will be reviewed by the assistant chair, the assistant executive director, and the working group co-chairs. Individuals will be advised whether or not their request can be accommodated.

Individuals chosen for membership on the working group must represent their aviation community segment and actively participate in the working group (e.g., attend all meetings, provide written comments when requested to do so, etc.). They must devote the resources necessary to support the working group in meeting any assigned deadlines. Members must keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group co-chairs.

The Secretary of Transportation determined that the formation and use of the ARAC is necessary and in the public interest in connection with the performance of duties imposed on the FAA by law.

Meetings of the ARAC will be open to the public. Meetings of the Engine Harmonization Working Group will not be open to the public, except to the extent that individuals with an interest and expertise are selected to participate. The FAA will make no public announcement of working group meetings.

Issued in Washington, DC, on October 30, 2001.
Anthony F. Fazio,
Executive Director, Aviation Rulemaking Advisory Committee.

[FR Doc. 01-27998 Filed 11-6-01; 8:45 am]

BILLING CODE 4910-13-M